DEPARTMENT OF DEFENSE

Department of the Army; Corps of Engineers

Intent To Prepare a Draft Environmental Impact Statement for the Morehead City Harbor Project, Dredged Material Management Plan, Carteret County, NC

AGENCY: Department of the Army, U.S. Army Corps of Engineers, DoD.

ACTION: Notice of intent.

SUMMARY: The Wilmington District, U.S. Army Corps of Engineers (USACE) is conducting a study to evaluate the long-term (20-year) dredged material placement needs and opportunities for Morehead City Harbor, NC. The study area encompasses Morehead City Harbor and the Ocean Bar approach channels extending seaward to deep water through Beaufort Inlet in Carteret County, near Morehead City, NC. The study will include the preparation of an integrated (combined) Dredged Material Management Plan (DMMP) and Draft Environmental Impact Statement (DEIS) and will identify, evaluate, screen, prioritize, and ultimately optimize placement alternatives resulting in the recommendation of a plan for the placement of dredged materials for at least the next 20 years.

FOR FURTHER INFORMATION CONTACT: Questions regarding the DMMP and DEIS should be directed to: Mr. Stacy Samuelson; Environmental Resources Section; U.S. Army Engineer District, Wilmington; 69 Darlington Avenue; Wilmington, NC 28402-1890; telephone: (910) 251-4480.

SUPPLEMENTARY INFORMATION: The USACE, Engineering Regulation (ER) 1105-2-100 mandates that the Corps Districts develop DMMPs for all Federal navigation projects where there is an indication of insufficient capacity to accommodate maintenance dredging for the next 20 years. The ER further requires that the Districts consider options that provide opportunities for beneficial uses of dredged material.

Pursuant to the National Environmental Policy Act of 1969, as amended, options for dredged material management will be based on an evaluation of the probable impact of the proposed activity on the public interest. The decision will reflect the national concern for the protection and utilization of important resources. The benefit, which may reasonably be expected to accrue from the proposal, will be balanced against its reasonably foreseeable detriments. All factors that may be relevant to the proposal will be considered, including wetlands; fish and wildlife resources; cultural resources; land use; water and air quality; hazardous, toxic, and radioactive substances; threatened and endangered species; regional geology; aesthetics; environmental justice; and the general needs and welfare of the public.

The alternatives currently being considered for the DMMP include, but are not limited to: offshore disposal in the Environmental Protection Agency designated Ocean Dredged Material Disposal Site (ODMDS), nearshore disposal on the ebb tide delta, beach disposal, and upland disposal at Brandt Island. Additional beneficial uses of dredged material will also be investigated for the DMMP. The DEIS will address environmental effects of reasonable alternatives.

All private parties and Federal, State, and local agencies having an interest in the study are hereby notified of the intent to prepare a DEIS and are invited to comment at this time. A scoping letter was mailed to a standard mailing list November 26, 2007 and all comments received as a result of the scoping letter and this notice of intent will be considered in the preparation of the DMMP and DEIS.

The lead agency for this project is the U.S. Army Engineer District, Wilmington. Cooperating agency status has not be assigned to, nor requested by, any other agency.

The DEIS is being prepared in accordance with the requirements of the National Environmental Policy Act of 1969, as amended, and will address the relationship of the proposed action to all other applicable Federal and State Laws and Executive Orders.

The DMMP and DEIS is currently scheduled to be available in July 2010.

Dated: March 17, 2009.
Jefferson M. Ryscavage,
Colonel, EN, Commanding.

[FR Doc. E9-6855 Filed 3-26-09; 8:45 am]

BILLING CODE 3720-58-P